DEPARTMENT OF DEFENSE

Office of the Secretary

Uniform Formulary Beneficiary Advisory Panel; Notice of Federal Advisory Committee Meeting; Modification

AGENCY: Under Secretary of Defense for Personnel and Readiness, Department of Defense (DoD).

ACTION: Notice of Federal Advisory Committee meeting; modification.

SUMMARY: On February 26, 2020, the DoD published a notice to announce the April 1, 2020 meeting of the Uniform Formulary Beneficiary Advisory Panel. On March 9, 2020, the DoD published a notice that announced that the meeting time had changed. DoD is publishing this notice to announce that this federal advisory committee meeting has been modified to a remote access format.

DATES: Open to the public Wednesday, April 1, 2020 from 12:00 p.m. to 3:00 p.m.

ADDRESSES: The address of the open meeting will be online. The phone number for the remote access is: CONUS: 888-469-2037; OCONUS: 1-517-308-9287; PARTICIPANT CODE: 8227323. These numbers and the dial-in instructions will also be posted on the Uniform Formulary Beneficiary Advisory Panel website at: https://www.health.mil/About-MHS/OASDHA/Defense-Health-Agency/Operations/Pharmacy-Division/Beneficiary-Advisory-Panel.

FOR FURTHER INFORMATION CONTACT: Colonel Paul J. Hoerner, USAF, 703-681-2890 (Voice), None (Facsimile), dha.ncr.j-6.mbx.baprequests@mail.mil (Email). Mailing address is 7700 Arlington Boulevard, Suite 5101, Falls Church, VA 22042-5101. Website: https://www.health.mil/About-MHS/OASDHA/Defense-Health-Agency/Operations/Pharmacy-Division/Beneficiary-Advisory-Panel. The most up-to-date changes to the meeting agenda can be found on the website.

SUPPLEMENTARY INFORMATION: Due to circumstances beyond the control of the Department of Defense, the Designated Federal Officer for the Uniform Formulary Beneficiary Advisory Panel was unable to provide public notification required by 41 CFR 102-3.150(a) concerning the modification of the previously noticed meeting for April 1, 2020. Accordingly, the Advisory Committee Management Officer for the Department of Defense, pursuant to 41 CFR 102-3.150(b), waives the 15-calendar day notification requirement.

On February 26, 2020 (85 FR 11053-11054), the Department of Defense published a notice that announced an April 1, 2020 meeting of the Uniform Formulary Beneficiary Advisory Panel. On March 9, 2020 (85 FR 13636), the DoD published a notice that announced that the meeting time had changed. DoD is publishing this notice to announce that this federal advisory committee meeting has been modified to a remote access format.

Written Statements: Pursuant to 41 CFR 102-3.10, and section 10(a)(3) of FACA, interested persons or organizations may submit written statements to the Uniform Formulary Beneficiary Advisory Panel about its mission and/or the agenda to be addressed in this public meeting. Written statements should be submitted to the Uniform Formulary Beneficiary Advisory Panel's DFO. The DFO's contact information can be found in the FOR FURTHER INFORMATION CONTACT section of this notice. Written comments or statements must be received by the Uniform Formulary Beneficiary Advisory Panel's DFO at least five (5) business days prior to the meeting so they may be made available to the Uniform Formulary Beneficiary Advisory Panel for its consideration prior to the meeting. The Designated Federal Officer will review all submitted written statements and provide copies to all Uniform Formulary Beneficiary Advisory Panel members.

Dated: March 26, 2020.
Aaron T. Siegel,
Alternate OSD Federal Register Liaison Officer, Department of Defense.

[FR Doc. 2020-06690 Filed 3-30-20; 8:45 am]

BILLING CODE 5001-06-P